DEPARTMENT OF ENERGY

Notice of Orders Issued Under Section 3 of the Natural Gas Act During September 2018

| FE Docket Nos.
EQUINOR NATURAL GAS LLC (previously STATOIL NATURAL GAS) | 18-101-NG, 17-96-NG
DTE GAS COMPANY | 18-111-NG
ENERGY PLUS NATURAL GAS, LLC | 18-112-NG
BOISE WHITE PAPER L.L.C | 18-113-NG
SEMCO ENERGY, INC., d/b/a SEMCO ENERGY GAS COMPANY | 18-114-NG
NEW BRUNSWICK ENERGY MARKETING CORPORATION | 18-72-NG
FREEPORT LNG EXPANSION, LP., et al | 18-03-LNG
CLEAN ENERGY | 18-82-LNG
ALLIANCE PIPELINE L.P | 18-103-NG
ENGIE ENERGY MARKETING NA, INC | 18-115-NG; 17-38-NG
SENECA RESOURCES COMPANY, LLC (formerly) SENECA RESOURCES CORPORATION | 16-118-NG
MEXICO PACIFIC LIMITED LLC | 18-70-LNG
LIBERTY UTILITIES ENERGYNORTH NATURAL GAS CORP. d/b/a LIBERTY UTILITIES | 18-121-NG
BAY STATE GAS COMPANY d/b/a COLUMBIA GAS OF MASSACHUSETTS | 18-122-NG
NORTHERN UTILITIES, INC | 18-123-NG
PETROCHINA INTERNATIONAL (AMERICA), INC | 18-124-NG
CONSOLIDATED EDISON COMPANY OF NEW YORK, INC. AND ORANGE AND ROCKLAND UTILITIES, INC | 18-125-NG
CENTRAL HUDSON GAS & ELECTRIC CORPORATION | 18-126-NG
YANKEE GAS SERVICES COMPANY | 18-127-NG
SEQUENT ENERGY MANAGEMENT, L.P | 18-128-NG
UGI ENERGY SERVICES, LLC | 18-129-NG
ALBERTA NORTHEAST GAS LIMITED | 18-117-NG
NORTHEAST GAS MARKETS, LLC | 18-118-NG
CONNECTICUT NATURAL GAS CORPORATION | 18-119-NG
THE SOUTHERN CONNECTICUT GAS COMPANY | 18-120-NG
MONTANA-DAKOTA UTILITIES COMPANY | 18-133-NG
STEPPE PETROLEUM USA INC | 17-06-NG
CHENIERE MARKETING, LLC & CORPUS CHRISTI LIQUEFACTION, LLC | 18-137-LNG
THE BROOKLYN UNION GAS COMPANY d/b/a NATIONAL GRID NY | 18-104-NG
KEYSPAN GAS EAST COMPANY d/b/a NATIONAL GRID | 18-105-NG
BOSTON GAS COMPANY d/b/a NATIONAL GRID | 18-106-NG
COLONIAL GAS COMPANY d/b/a NATIONAL GRID | 18-107-NG
NIAGARA MOHAWK POWER CORPORATION d/b/a NATIONAL GRID | 18-108-NG
THE NARRAGANSETT ELECTRIC COMPANY d/b/a NATIONAL GRID | 18-109-NG
UNITED STATES GYPSUM COMPANY | 18-134-NG
TERMOELECTRICA DE MEXICALI, S. DE R.L. DE C.V | 18-135-NG
ABAG PUBLICLY OWNED ENERGY RESOURCES | 18-136-NG
ROCKPOINT GAS STORAGE US, LLC | 18-116-NG
UNION GAS LIMITED | 18-130-NG
TAQA NORTH LTD | 18-132-NG
MERCURIA COMMODITIES CANADA CORPORATION | 18-138-NG

AGENCY: Office of Fossil Energy, Department of Energy.

ACTION: Notice of orders.

SUMMARY: The Office of Fossil Energy (FE) of the Department of Energy gives notice that during September 2018, it issued orders granting authority to import and export natural gas, to import and export liquefied natural gas (LNG), to amend authority, and vacating prior authorization. These orders are summarized in the attached appendix and may be found on the FE website at https://www.energy.gov/fe/listing-doefe-authorizationsorders-issued-2018-0.

They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9478. The Docket Room is open between the hours of 8:00 a.m. and 4:30 p.m., Monday through Friday, except Federal holidays.

Issued in Washington, DC, on November 13, 2018.
Amy Sweeney,
Director, Division of Natural Gas Regulation.

Appendix

DOE/FE Orders Granting Import/Export Authorizations

4236; 4075-A | 09/05/18 | 18-101-LNG; 17-96-NG | Equinor Natural Gas LLC (previously Statoil Natural Gas) | Order 4236 granting blanket authority to import LNG from various international sources by vessel and Order 4075-A vacating prior authority.
4239 | 09/03/18 | 18-111-NG | DTE Gas Company | Order 4239 granting blanket authority to import/export natural gas from/to Canada.
4240 | 09/03/18 | 18-112-NG | Energy Plus Natural Gas LLC | Order 4240 granting blanket authority to import/export natural gas from/to Canada.
4241 | 09/05/18 | 18-113-NG | Boise White Paper L.L.C | Order 4241 granting blanket authority to import natural gas from Canada.
4242 | 09/03/18 | 18-114-NG | SEMCO Energy, Inc., d/b/a SEMCO Energy Gas Company | Order 4242 granting blanket authority to import/export natural gas from/to Canada.
4243 | 09/03/18 | 18-72-NG | New Brunswick Energy Marketing Corporation | Order 4243 granting blanket authority to import/export natural gas from/to Canada.
4244 | 09/06/18 | 18-03-LNG | Freeport LNG Expansion, L.P., et al | Order 4244 granting blanket authority to export LNG by vessel from the Freeport LNG Terminal located on Quintana Island, Texas, to Free Trade Agreement Nations and Non-Free Trade Agreement Nations.
4245 | 09/05/18 | 18-82-LNG | Clean Energy | Order 4245 granting blanket authority to import/export LNG from/to Free Trade Agreement Nations by truck, rail, barge or other waterborne vessel.
4246 | 09/07/18 | 18-103-NG | Alliance Pipeline L.P | Order 4246 granting blanket authority to import natural gas from Canada.
4247; 4026-A | 09/07/18 | 18-115-NG; 17-38-NG | Engie Energy Marketing NA, Inc | Order 4247 granting blanket authority to import/export natural gas from/to Canada and to export natural gas to Mexico and Order 4026-A vacating prior authority.
3912-A | 09/03/18 | 16-118-NG | Seneca Resources Company, LLC (formerly Seneca Resources Corporation) | Order 3912-A amending blanket authority to export natural gas to Mexico to reflect name change.
4248 | 09/19/18 | 18-70-NG | Mexico Pacific Limited LLC | Order 4248 granting long-term multi-contract authority to export natural gas to Mexico and to other Free Trade Agreement Nations.
4249 | 09/15/18 | 18-121-NG | Liberty Utilities (EnergyNorth Natural Gas) Corp. d/b/a Liberty Utilities | Order 4249 granting blanket authority to import/export natural gas from/to Canada.
4250 | 09/15/18 | 18-122-NG | Bay State Gas Company d/b/a Columbia Gas of Massachusetts | Order 4250 granting blanket authority to import/export natural gas from/to Canada.
4251 | 09/15/18 | 18-123-NG | Northern Utilities, Inc | Order 4251 granting blanket authority to import/export natural gas from/to Canada.
4252 | 09/15/18 | 18-124-NG | Petrochina International (America), Inc | Order 4252 granting blanket authority to import/export natural gas from/to Canada/Mexico.
4253 | 09/15/18 | 18-125-NG | Consolidated Edison Company of New York, Inc. and Orange and Rockland Utilities, Inc | Order 4253 granting blanket authority to import/export natural gas from/to Canada.
4254 | 09/15/18 | 18-126-NG | Central Hudson Gas & Electric Corporation | Order 4254 granting blanket authority to import/export natural gas from/to Canada.
4255 | 09/15/18 | 18-127-NG | Yankee Gas Services Company | Order 4255 granting blanket authority to import/export natural gas from/to Canada.
4256 | 09/16/18 | 18-128-NG | Sequent Energy Management, L.P | Order 4256 granting blanket authority to import/export natural gas from/to Mexico.
4257 | 09/16/18 | 18-129-NG | UGI Energy Services, LLC | Order 4257 granting blanket authority to import natural gas from Canada, and to import/export LNG from/to Canada by truck.
4258 | 09/14/18 | 18-117-NG | Alberta Northeast Gas Limited | Order 4258 granting blanket authority to import/export natural gas from/to Canada.
4259 | 09/14/18 | 18-118-NG | Northeast Gas Markets, LLC | Order 4259 granting blanket authority to import/export natural gas from/to Canada.
4260 | 09/14/18 | 18-119-NG | Connecticut Natural Gas Corporation | Order 4260 granting blanket authority to import/export natural gas from/to Canada.
4261 | 09/15/18 | 18-120-NG | The Southern Connecticut Gas Company | Order 4261 granting blanket authority to import/export natural gas from/to Canada.
4262 | 09/16/18 | 18-133-NG | Montana-Dakota Utilities Company | Order 4262 granting blanket authority to import natural gas from Canada.
3979-A | 09/16/18 | 17-06-NG | Steppe Petroleum USA Inc | Order 3979-A vacating authority to import natural gas from Canada.
4263 | 09/28/18 | 18-137-LNG | Cheniere Marketing, LLC & Corpus Christi Liquefaction, LLC | Order 4263 granting blanket authority to export LNG by vessel from the Corpus Christi Liquefaction Project located in Corpus Christi, Texas to Free Trade Agreement Nations.
4264 | 09/21/18 | 18-104-NG | The Brooklyn Union Gas Company d/b/a National Grid NY | Order 4264 granting blanket authority to import/export natural gas from/to Canada.
4265 | 09/21/18 | 18-105-NG | KeySpan Gas East Corporation d/b/a National Grid | Order 4265 granting blanket authority to import/export natural gas from/to Canada.
4266 | 09/21/18 | 18-106-NG | Boston Gas Company d/b/a National Grid | Order 4266 granting blanket authority to import/export natural gas from/to Canada.
4267 | 09/21/18 | 18-107-NG | Colonial Gas Company d/b/a National Grid | Order 4267 granting blanket authority to import/export natural gas from/to Canada.
4268 | 09/21/18 | 18-108-NG | Niagara Mohawk Power Corporation d/b/a National Grid | Order 4268 granting blanket authority to import/export natural gas from/to Canada.
4269 | 09/21/18 | 18-109-NG | The Narragansett Electric Company d/b/a National Grid | Order 4269 granting blanket authority to import/export natural gas from/to Canada.
4270 | 09/26/18 | 18-134-NG | United States Gypsum Company | Order 4270 granting blanket authority to import natural gas from Canada.
4271 | 09/26/18 | 18-135-NG | Termoelectrica de Mexicali, S. de R.L. de C.V | Order 4271 granting blanket authority to import/export natural gas from/to Mexico.
4272 | 09/26/18 | 18-136-NG | ABAG Publicly Owned Energy Business | Order 4272 granting blanket authority to import natural gas from Canada.
4273 | 09/26/18 | 18-116-NG | Rockpoint Gas Storage US, LLC | Order 4273 granting blanket authority to import/export natural gas from/to Canada.
4274 | 09/26/18 | 18-130-NG | Union Gas Limited | Order 4274 granting long-term authority to export natural gas to Canada.
4275 | 09/26/18 | 18-132-NG | TAQA North Ltd | Order 4275 granting blanket authority to import natural gas from Canada.
4276 | 09/28/18 | 18-138-NG | Mercuria Commodities Canada Corporation | Order 4276 granting long-term authority to export natural gas to Canada.

[FR Doc. 2018-25167 Filed 11-16-18; 8:45 am]

BILLING CODE 6450-01-P